GENERAL SERVICES ADMINISTRATION

[Notice-FTR 2012-01; Docket 2012-0004; Sequence 6]

Privately Owned Vehicle Mileage Reimbursement Rates

AGENCY: Office of Governmentwide Policy (OGP), General Services Administration (GSA).

ACTION: Notice of FTR Bulletin 13-02, Calendar Year (CY) 2013 Privately Owned Vehicle Mileage Reimbursement Rates.

SUMMARY: The General Services Administration's annual privately owned vehicle (POV) mileage reimbursement rate reviews have resulted in new CY 2013 rates for the use of privately owned automobiles (POA), POAs when Government owned automobiles (GOA) are authorized, privately owned motorcycles, and privately owned airplanes for official purposes. FTR Bulletin 13-02 establishes the new CY 2013 mileage reimbursement rates ($0.565 for POAs, $0.24 for POAs when a GOA is authorized, $0.535 for privately owned motorcycles, and $1.33 for privately owned airplanes) pursuant to the process discussed below. This notice of subject bulletin is the only notification of revisions to the POV rates to agencies other than the changes posted on the GSA Web site. GSA determines these rates by reviewing the annual standard automobile study contracted for by the Internal Revenue Service, as well as conducting independent automobile, motorcycle, and aircraft studies that evaluate various factors, such as the cost of fuel, the depreciation of the original vehicles costs, maintenance and insurance, and or by applying consumer price index data.

DATES: Effective date: This notice is effective December 28, 2012 and applies to travel performed on or after January 1, 2013 through December 31, 2013.

FOR FURTHER INFORMATION CONTACT: For clarification of content, please contact Mr. Cy Greenidge, Office of Government-wide Policy, Office of Asset and Transportation Management, at 202 219-2349, or by email at travelpolicy@gsa.gov. Please cite Notice of FTR Bulletin 13-02.

SUPPLEMENTARY INFORMATION:

Change in Standard Procedure

GSA posts the POV mileage reimbursement rates, formerly published in 41 CFR Chapter 301, solely on the internet at www.gsa.gov/ftr. This process, implemented in FTR Amendment 2010-07 (75 FR 72965, Nov. 29, 2010), ensures more timely updates in mileage reimbursement rates by GSA for Federal employees on official travel. Notices published periodically in the Federal Register, such as this one, and the changes posted on the GSA Web site, now constitute the only notification of revisions to privately owned vehicle reimbursement rates for Federal agencies.

Dated: December 21, 2012.
Janet Dobbs,
Deputy Associate Administrator, Office of Asset and Transportation Management, Office of Government Policy.

[FR Doc. 2012-31304 Filed 12-27-12; 8:45 am]

BILLING CODE 6820-14-P